DEPARTMENT OF HEALTH AND HUMAN SERVICES

Centers for Disease Control and Prevention

[Docket No. CDC-2012-0013]

Draft Environmental Impact Statement for the Roybal 2025 Master Plan; Re-Scheduling of Public Meeting and Extension of Public Comment Period

AGENCY: Centers for Disease Control and Prevention, HHS.

ACTION: Notice of public meeting and extension of public comment period.

SUMMARY: The Centers for Disease Control and Prevention (CDC), within the Department of Health and Human Services (HHS), announces the re-scheduling of a public meeting to obtain public comment on the Roybal Campus 2025 Master Plan Draft Environmental Impact Statement (DEIS) and the extension of the public comment period. A public meeting had been scheduled for Wednesday, January 29, 2014 but had to be cancelled due to adverse weather conditions. The new date for the public hearing is Thursday, March 20, 2014.

DATES: A public meeting will be held on Thursday, March 20, 2014 at the CDC Edward R. Roybal Campus, 1600 Clifton Road NE. in Atlanta, Georgia beginning with an “open house” at 7:00 p.m. EST. A formal presentation, followed by a public comment period will follow at approximately 8:00 p.m. EST.

To accommodate individuals who wish to attend the public meeting and then provide comment, we are extending the public comment period to April 10, 2014. Written comments must be received on or before that date.

Deadline for Requests for Special Accommodations: Persons wishing to participate in the public meeting who need special accommodations should contact George Chandler (gec2@cdc.gov or (404) 639-5153) by Thursday, March 13, 2014.

ADDRESSES: Requests for information on the DEIS or for a paper/electronic copy should be directed to: George F. Chandler, Senior Advisor, Centers for Disease Control and Prevention, 1600 Clifton Road NE., Mailstop A-22, Atlanta, Georgia 30333. Information may also be requested on the DEIS by electronic mail at gec2@cdc.gov or by telephone at (404) 639-5153. The DEIS will be available on the Federal eRulemaking Portal: http://www.regulations.gov, identified by Docket No. CDC-2012-0013. Hard copies of the DEIS are also available for review at locations listed in the Availability of the DEIS under SUPPLEMENTARY INFORMATION.

You may submit comments identified by Docket No. CDC-2012-0013, by any of the following methods:

• Federal eRulemaking Portal: http://www.regulations.gov. Follow the instructions for submitting comments.

• Mail: George F. Chandler, Senior Advisor, Centers for Disease Control and Prevention, 1600 Clifton Road NE., Mailstop A-22, Atlanta, Georgia 30333.

Instructions: All submissions received must include the agency name and Docket Number. All relevant comments received will be posted without change to http://www.regulations.gov, including any personal information provided. For access to the docket, to read background documents or comments received, go to http://www.regulations.gov.

Written and verbal comments on the DEIS will also be accepted during the public meeting scheduled for Thursday, March 20, 2014 at the CDC Edward R. Roybal Campus, Tom Harkin Global Communications Center (Building 19), Auditorium A, 1600 Clifton Road NE., Atlanta, GA 30333. Please be advised that the meeting is being held in a Federal government building; therefore, Federal security measures are applicable. For additional information please see Roybal Campus Security Guidelines under SUPPLEMENTARY INFORMATION.

FOR FURTHER INFORMATION CONTACT: George F. Chandler, Senior Advisor, Centers for Disease Control and Prevention, 1600 Clifton Road NE., Mailstop A-22, Atlanta, Georgia 30333. Telephone: (404) 639-5153.

SUPPLEMENTARY INFORMATION: On January 10, 2014 HHS/CDC published a notice in the Federal Register (79 FR 1870) announcing the availability of the Draft Environmental Impact Statement (DEIS) for the Roybal Campus 2025 Master Plan for public comment. The notice also announced a public meeting on Wednesday, January 29, 2014 at the Roybal Campus in Atlanta, Georgia to obtain public comment on the DEIS. Unfortunately, HHS/CDC had to cancel the public meeting due to adverse weather in Atlanta. This notice announces the re-scheduling of the public meeting for Thursday, March 20, 2014 and extension of the public comment period to Monday, April 10, 2014. As before, the public hearing will be held at CDC Edward R. Roybal Campus, Tom Harkin Global Communications Center (Building 19), Auditorium A, 1600 Clifton Road NE., Atlanta, GA 30333.

For the convenience of the public, in this notice we are again providing the same background information on this project that appeared in the January 10, 2014 notice.

HHS/CDC has prepared a new long-range Master Plan to guide the future physical development of the Roybal Campus for the planning horizon of 2015 to 2025. The previous 2000-2009 Master Plan has been implemented, and as a result, a new plan is needed in order to ensure that the campus can support HHS/CDC's mission and program requirements through 2025. Mission change and growth resulting from emerging or reemerging infectious diseases, reclassification of pathogens and potential Program staff growth over time are expected to drive increases in laboratory and non-laboratory staff and demand for specialized space. The Master Plan provides an update of baseline existing conditions and examines the potential growth in agency mission, laboratory and laboratory support space, office space and personnel occupying the Roybal Campus, and identifies a preferred alternative for future development. The preferred alternative was the result of an extensive screening process, which identified and evaluated a range of conceptual development alternatives based on future program needs, campus constraints, and specifically developed selection criteria. Selection criteria included the examination of regional and local planning policy, utility demand, air quality, commute time, transportation system capacity and greenhouse gas effects.

Alternatives Considered

HHS/CDC analyzed two alternatives in the DEIS: The Proposed Action and the No Action Alternative. The Proposed Action Alternative consists of HHS/CDC's implementation of the Master Plan preferred alternative. Improvements proposed under the Master Plan preferred alternative include new laboratory construction, existing building renovation, parking expansion, and infrastructure upgrades. Under the Master Plan preferred alternative, the new laboratory building would contain approximately 350,000 to 450,000 gross square feet and would be constructed on an existing surface parking lot located in the eastern portion of the Roybal Campus. In addition to a new laboratory, a new approximately 1,600 space parking deck would be constructed just south of the new laboratory building. Construction of the new parking deck, along with the new laboratory and supporting infrastructure would eliminate an existing surface parking and result in a net increase of approximately 1,200 parking spaces at the Roybal Campus. HHS/CDC anticipates that the construction of the new parking deck would increase the campus parking cap from 3,300 to approximately 4,500 spaces. The employee population at the Roybal Campus is projected to increase by approximately 1,485 new occupants under the Master Plan preferred alternative in 2025.

The No Action Alternative represents continued operation of the existing facilities at the Roybal Campus without any new construction or building additions over the ten-year planning period from 2015 to 2025. However, the employee population at the Roybal Campus is projected to increase by approximately 865 new occupants under the No Action Alternative due to potential background growth of existing Campus programs.

The DEIS evaluates the environmental impacts that may result from the Proposed Action and the No Action Alternative on the natural and built environment. Potential direct, indirect and cumulative impacts of each alternative are evaluated on the following resource categories: Socioeconomics, land use, zoning, public policy, community facilities, transportation, air quality, noise, cultural resources, urban design and visual resources, natural resources, utilities, waste, and greenhouse gases and sustainability. The DEIS identifies measures to mitigate potential adverse impacts.

Availability of the DEIS: Copies of the DEIS have been distributed to federal, state and local agencies and organizations. The DEIS is also available online on the Federal eRulemaking Portal: http://www.regulations.gov, identified by Docket No. CDC-2012-0013. Copies of the DEIS are available at the following locations: Decatur Library, 215 Sycamore Street, Decatur, GA 30030; Toco Hill-Avis G. Williams Library, 1282 McConnell Drive, Decatur, GA 30030; Atlanta-Public Library Ponce de Leon Branch, 980 Ponce de Leon Ave. NE., Atlanta, GA 30306; Atlanta-Public Library-Central Library, One Margaret Mitchell Square, Atlanta, GA 30303; Atlanta-Public Library-Kirkwood Branch, 11 Kirkwood Rd. NE., Atlanta, GA 30317; and, Emory University- Robert W. Woodruff Library, 540 Asbury Cir, Atlanta, GA 30322.

Paper and electronic copies can also be requested as instructed in the ADDRESSES section of this notice.

Public Meeting: HHS/CDC has re-scheduled a public meeting on Thursday, March 20, 2014 at the HHS/CDC Edward R. Roybal Campus, Tom Harkin Global Communications Center (Building 19), Auditorium A, 1600 Clifton Road NE., Atlanta, GA 30333 to solicit public comments on the DEIS. Comments can be submitted in writing or verbally during the public meeting. The public meeting will consist of an “Open House” from 7:00 p.m. EST to approximately 8:00 p.m. EST, followed by a formal presentation and a formal comment period. Comment cards will be available at the Open House for those who wish to submit written comments for the record. Those wishing to make verbal comments will be asked to pre-register during the Open House portion of the public meeting. The formal presentations will begin at approximately 8:00 p.m. EST, at which time HHS/CDC will provide an overview of the NEPA process and the Master Plan proposed improvements and associated environmental impacts. The formal presentations will be followed by a formal public comment period.

A stenographer will record the formal portion of the public meeting. An American Sign Language Interpreter will also be available at both portions of the public hearing. A transcript of the meeting and all comments will be made available to the public and will be posted to the public docket at www.regulations.gov, identified by Docket No. CDC-2012-0013.

Roybal Campus Security Guidelines. The HHS/CDC Edward R. Roybal Campus is the headquarters of the U.S. Centers for Disease Control and Prevention and is located at 1600 Clifton Road NE., Atlanta, Georgia. The public hearing is being held in a Federal government building; therefore, Federal security measures are applicable. In planning your arrival time, please take into account the need to park and clear security. All visitors must enter the Roybal Campus through the entrance on Clifton Road; the guard force will direct visitors to the designated parking area. Visitors must present government issued photo identification (e.g., a valid Federal identification badge, state driver's license, state non-driver's identification card, or passport). Non-United States citizens must present a valid passport, visa, Permanent Resident Card, or other type of work authorization document. All persons entering the building must pass through a metal detector. Visitors will be issued a visitor's ID badge at the entrance to Building 19 and will be escorted in groups of 5 to 10 persons to the meeting room. All items brought to HHS/CDC are subject to inspection.

Dated: February 14, 2014.
Ron A. Otten,
Acting Deputy Associate Director for Science, Centers for Disease Control and Prevention.

[FR Doc. 2014-03659 Filed 2-20-14; 8:45 am]

BILLING CODE 4163-18-P